DEPARTMENT OF TRANSPORTATION

Federal Aviation Administration

14 CFR Part 39

[Docket No. FAA-2023-1396; Project Identifier MCAI-2023-00701-T; Amendment 39-22486; AD 2023-13-01]

RIN 2120-AA64

Airworthiness Directives; Airbus SAS Airplanes

AGENCY: Federal Aviation Administration (FAA), DOT.

ACTION: Final rule; request for comments.

SUMMARY: The FAA is superseding Airworthiness Directive (AD) 2008-23-01, which applies to certain Airbus SAS Model A318, A319, A320, and A321 series airplanes. AD 2008-23-01 required inspecting to determine the part number and serial number of the fuel tank boost pumps and, for airplanes with affected pumps, revising the operator's airplane flight manual (AFM) and FAA-approved maintenance program. AD 2008-23-01 also required modifying or replacing certain fuel tank boost pumps, which terminated the AFM limitations and the maintenance program revisions. Since the FAA issued AD 2008-23-01, it has been determined that airplanes fitted with a different fuel pump can be subject to cavitation erosion on the wiring conduit. This AD requires inspecting affected fuel pumps for discrepancies and replacement if necessary, as specified in a European Union Aviation Safety Agency (EASA). This AD also requires replacing certain other fuel pumps. This AD also limits the installation of affected fuel pumps under certain conditions. The FAA is issuing this AD to address the unsafe condition on these products.

DATES: This AD is effective July 12, 2023.

The Director of the Federal Register approved the incorporation by reference of a certain publication listed in this AD as of July 12, 2023.

The FAA must receive comments on this AD by August 11, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1396; or in person at Docket Operations between 9 a.m. and 5 p.m., Monday through Friday, except Federal holidays. The AD docket contains this final rule, the mandatory continuing airworthiness information (MCAI), any comments received, and other information. The street address for Docket Operations is listed above.

Material Incorporated by Reference:

• For EASA material incorporated by reference in this AD, contact EASA, Konrad-Adenauer-Ufer 3, 50668 Cologne, Germany; telephone +49 221 8999 000; email ADs@easa.europa.eu; website easa.europa.eu. You may find this material on the EASA website at ad.easa.europa.eu.

• You may view this service information at the FAA, Airworthiness Products Section, Operational Safety Branch, 2200 South 216th St., Des Moines, WA. For information on the availability of this material at the FAA, call 206-231-3195. It is also available at regulations.gov under Docket No. FAA-2023-1396.

FOR FURTHER INFORMATION CONTACT: Timothy Dowling, Aviation Safety Engineer, FAA, 1600 Stewart Avenue, Suite 410, Westbury, NY 11590; phone: 206-231-3667; email: Timothy.P.Dowling@faa.gov.

SUPPLEMENTARY INFORMATION:

Comments Invited

The FAA invites you to send any written data, views, or arguments about this final rule. Send your comments to an address listed under ADDRESSES. Include “Docket No. FAA-2023-1396; Project Identifier MCAI-2023-00701-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Timothy Dowling, Aviation Safety Engineer, FAA, 1600 Stewart Avenue, Suite 410, Westbury, NY 11590; phone: 206-231-3667; email: Timothy.P.Dowling@faa.gov. Any commentary that the FAA receives which is not specifically designated as CBI will be placed in the public docket for this rulemaking.

Background

The FAA issued AD 2008-23-01, Amendment 39-15722 (73 FR 67379, November 14, 2008) (AD 2008-23-01), for certain Airbus SAS Model A318-111, -112, -121, and -122 airplanes; Model A319-111, -112, -113, -114, -115, -131, -132, -133, -151N, -153N, and -171N airplanes; Model A320-211, -212, -214, -216, -231, -232, -233, -251N, -252N, -253N, -271N, -272N, and -273N airplanes; and Model A321-111, -112, -131, -211, -212, -213, -231, -232, -251N, -252N, -253N, -271N, -272N, -251NX, -252NX, -253NX, -271NX, and -272NX airplanes.

AD 2008-23-01 was prompted by an MCAI originated by EASA, which is the Technical Agent for the Member States of the European Union. EASA issued AD 2007-0218, dated August 10, 2007, to correct an unsafe condition.

AD 2008-23-01 required inspecting to determine the part number and serial number of the fuel tank boost pumps and, for airplanes with affected pumps, revising the AFM and the FAA-approved maintenance program. AD 2008-23-01 also required modifying or replacing the fuel tank boost pumps (part numbers (P/Ns) 568-1-27202-001, 568-1-27202-002, and 568-1-27202-005), which terminated the AFM limitations and the maintenance program revisions. The FAA issued AD 2008-23-01 to address electrical arcing in the fuel tank boost pump motor, which, in the presence of a combustible air-fuel mixture in the pump, could result in an explosion and loss of the airplane.

Actions Since AD 2008-23-01 Was Issued

Since the FAA issued AD 2008-23-01, EASA superseded AD 2007-0218R2, dated October 10, 2014 (EASA AD 2007-0218R2), and issued EASA AD 2023-0106, dated May 25, 2023 (EASA AD 2023-0106) (also referred to as the MCAI), to correct an unsafe condition for all Model A318-111, -112, -121, and -122 airplanes; Model A319-111, -112, -113, -114, -115, -131, -132, -133, -151N, -153N, and -171N airplanes; Model A320-211, -212, -214, -215, -216, -231, -232, -233, -251N, -252N, -253N, -271N, -272N, and -273N airplanes; and Model A321-111, -112, -131, -211, -212, -213, -231, -232, -251N, -252N, -253N, -271N, -272N, -251NX, -252NX, -253NX, -271NX, and -272NX airplanes. Model A320-215 airplanes are not certificated by the FAA and are not included on the U.S. type certificate data sheet; this AD therefore does not include those airplanes in the applicability. The MCAI states that since EASA AD 2007-0218R2 was issued to address fuel pump A (P/Ns 568-1-27202-001, 568-1-27202-002, and 568-1-27202-005), it has been determined that airplanes equipped with fuel pump B (P/N 568-1-27202-02R, which is one of the replacement fuel pumps for fuel pump A) can be subject to cavitation erosion on the wiring conduit. This condition, if not detected and mitigated, could lead to be the source of an in-tank ignition, affecting the integrity of the airplane structure and systems.

Paragraph (1) of EASA AD 2023-0106 prohibits operation of an airplane equipped with fuel pump A. However, this AD does not include that requirement. Instead, as specified in paragraph (h)(3) of this AD, for airplanes equipped with fuel pump A, operators must, before further flight, replace fuel pump A with a fuel pump other than fuel pump A, except as specified in paragraphs (7) and (8) of EASA AD 2023-0106. Paragraph (j) of AD 2008-23-01 required the replacement or modification of fuel pump A, which operators should have done within 5,000 flight hours or 18 months, whichever occurs first after December 19, 2008 (the effective date of AD 2008-23-01). Therefore, paragraph (h)(3) of this AD continues to require the replacement of fuel pump A.

The FAA is issuing this AD to address the unsafe condition on these products. You may examine the MCAI in the AD docket at regulations.gov under Docket No. FAA-2023-1396.

Related Service Information Under 1 CFR Part 51

EASA AD 2023-0106 specifies procedures for doing a general visual inspection of fuel pump B for discrepancies and replacement if necessary. Discrepancies include any erosion on the wiring conduit, holes in the inlet guide vanes, and erosion on the inlet guide vane that is less than 12mm (0.47 in) from the outer edge to the start of the erosion. EASA AD 2023-0106 also prohibits operation of an airplane equipped with fuel pump A.

This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI referenced above. The FAA is issuing this AD after determining that the unsafe condition described previously is likely to exist or develop on other products of the same type design.

Requirements of This AD

This AD requires accomplishing the actions specified in EASA AD 2023-0106 described previously, except for any differences identified as exceptions in the regulatory text of this AD. This AD also limits the installation of affected fuel pumps under certain conditions.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2023-0106 is incorporated by reference in this AD. This AD requires compliance with EASA AD 2023-0106 in its entirety through that incorporation, except for any differences identified as exceptions in the regulatory text of this AD. Using common terms that are the same as the heading of a particular section in EASA AD 2023-0106 does not mean that operators need comply only with that section. For example, where the AD requirement refers to “all required actions and compliance times,” compliance with this AD requirement is not limited to the section titled “Required Action(s) and Compliance Time(s)” in EASA AD 2023-0106. Service information required by EASA AD 2023-0106 for compliance will be available at regulations.gov under Docket No. FAA-2023-1396 after this AD is published.

Interim Action

The FAA considers that this AD is an interim action and further AD action might follow.

FAA's Justification and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because airplanes fitted with fuel pump B are subject to cavitation erosion on the wiring conduit, which could lead to be the source of an in-tank ignition, affecting the integrity of the airplane structure and systems. In addition, the required inspection must be done within 30 or 90 days, depending on fuel pump location, in order to address the unsafe condition. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 1,899 airplanes of U.S. registry. The FAA estimates the following costs to comply with this AD:

Estimated Costs for Required Actions
Action * | Labor cost | Parts cost | Cost per product | Cost on U.S. operators
New actions | 1 work-hour × $85 per hour = $85 | $0 | $85 | $161,415
* U.S. operators have already replaced fuel pump A; therefore the costs are not included in this table. For any affected airplane that is imported and placed on the U.S. Register in the future that has not done the replacement, refer to the cost estimates in the “Estimated costs on on-condition actions” table below, which specifies replacement costs.

The FAA estimates the following costs to do any necessary on-condition action that would be required based on the results of any required actions. The FAA has no way of determining the number of aircraft that might need this on-condition action:

Estimated Costs of On-Condition Actions
Labor cost | Parts cost | Cost per product
3 work-hours × $85 per hour = $255 | $6,625 | $6,880

According to the manufacturer, some or all of the costs of this AD may be covered under warranty, thereby reducing the cost impact on affected operators. The FAA does not control warranty coverage for affected operators. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2008-23-01, Amendment 39-15722 (73 FR 67379, November 14, 2008); and

b. Adding the following new AD:

2023-13-01 Airbus SAS: Amendment 39-22486; Docket No. FAA-2023-1396; Project Identifier MCAI-2023-00701-T.

(a) Effective Date

This airworthiness directive (AD) is effective July 12, 2023.

(b) Affected ADs

This AD replaces AD 2008-23-01, Amendment 39-15722 (73 FR 67379, November 14, 2008) (AD 2008-23-01).

(c) Applicability

This AD applies to all Airbus SAS airplanes specified in paragraphs (c)(1) through (4) of this AD, certificated in any category.

(1) Model A318-111, -112, -121, and -122 airplanes.

(2) Model A319-111, -112, -113, -114, -115, -131, -132, -133, -151N, -153N, and -171N airplanes.

(3) Model A320-211, -212, -214, -216, -231, -232, -233, -251N, -252N, -253N, -271N, -272N, and -273N airplanes.

(4) Model A321-111, -112, -131, -211, -212, -213, -231, -232, -251N, -252N, -253N, -271N, -272N, -251NX, -252NX, -253NX, -271NX, and -272NX airplanes.

(d) Subject

Air Transport Association (ATA) of America Code 28, Fuel.

(e) Unsafe Condition

This AD was prompted by a determination that airplanes fitted with a certain fuel pump other than the fuel pumps identified in AD 2008-23-01 can be subject to cavitation erosion on the wiring conduit. The FAA is issuing this AD to address this condition, which could lead to be the source of an in-tank ignition, affecting the integrity of the airplane structure and systems.

(f) Compliance

Comply with this AD within the compliance times specified, unless already done.

(g) Requirements

Except as specified in paragraph (h) of this AD: Comply with all required actions and compliance times specified in, and in accordance with, European Union Aviation Safety Agency (EASA) AD 2023-0106, dated May 25, 2023 (EASA AD 2023-0106).

(h) Exceptions to EASA AD 2023-0106

(1) Where EASA AD 2023-0106 refers to its effective date, this AD requires using the effective date of this AD.

(2) Paragraph (1) of EASA AD 2023-0106 is not adopted by this AD. Instead, for airplanes equipped with “fuel pump A” as defined in EASA AD 2023-0106, before further flight, replace “fuel pump A” with a fuel pump other than “fuel pump A,” except as specified in paragraphs (7) and (8) of EASA AD 2023-0106.

Note 1 to paragraph (h)(2) of this AD: Guidance for replacing fuel pumps can be found in paragraph 2.2. of “The AOT” as defined in EASA AD 2023-0106.

(3) Where paragraphs (4) and (5) of EASA AD 2023-0106 refer to “discrepancies, as defined in the AOT,” for this AD, discrepancies include any erosion on the wiring conduit, holes in the inlet guide vanes, and erosion on the inlet guide vane that is less than 12mm (0.47 in) from the outer edge to the start of the erosion.

(4) This AD does not adopt the “Remarks” section of EASA AD 2023-0106.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (i)(2) of this AD, if any service information referenced in EASA AD 2023-0106 contains paragraphs that are labeled as RC, the instructions in RC paragraphs, including subparagraphs under an RC paragraph, must be done to comply with this AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC.

(j) Additional Information

For more information about this AD, contact Timothy Dowling, Aviation Safety Engineer, 1600 Stewart Avenue, Suite 410, Westbury, NY 11590; phone: 206-231-3667; email: Timothy.P.Dowling@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2023-0106, dated May 25, 2023.

(ii) [Reserved]

(3) For EASA AD 2023-0106, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195. This material may be found in the AD docket at regulations.gov under Docket No. FAA-2023-1396.

(5) You may view this material that is incorporated by reference at the National Archives and Records Administration (NARA). For information on the availability of this material at NARA, email fr.inspection@nara.gov, or go to: www.archives.gov/federal-register/cfr/ibr-locations.html.

Issued on June 20, 2023.
Michael Linegang,
Acting Director, Compliance & Airworthiness Division, Aircraft Certification Service.

[FR Doc. 2023-13743 Filed 6-23-23; 4:15 pm]

BILLING CODE 4910-13-P